DEPARTMENT OF JUSTICE

Notice of Lodging of Consent Decree Under the Clean Air Act (“CAA”)

On August 23, 2013, the Department of Justice lodged a proposed Consent Decree with the United States District Court for the District of Utah, Northern Division, in the lawsuit entitled United States and State of Utah v. Big West Oil, LLC, 1:13-cv-00121-BCW. The settlement relates to Big West Oil LLC's (“Big West Oil”) petroleum refinery located in North Salt Lake, Utah (the “BWO Refinery”).

The proposed Consent Decree resolves claims of the United States and the State of Utah under the Clean Air Act and claims of the State of Utah under the Utah Air Conservation Act related to the BWO Refinery. Under the proposed Consent Decree, Big West Oil will pay a civil penalty in the amount of $157,500 to the United States and $17,500 to the State of Utah. In addition, the Consent Decree imposes emission limits on several pollutants at multiple units, requires improved flaring efficiency, and enhanced controls for leak detection and repair and benzene-containing wastewater. The Consent Decree includes a supplemental environmental project requiring Big West Oil to install, at a cost of approximately $253,000, a laser detection system around the perimeter of the Hydrofluoric Acid (“HF”) Alkylation Unit that will provide earlier detection of much lower levels of HF.

The publication of this notice opens a period for public comment on the Decree. Comments should be addressed to the Assistant Attorney General, Environment and Natural Resources Division, and should refer to United States and State of Utah v. Big West Oil, LLC, D.J. Ref. No. 90-5-2-1-07689. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, D.C. 20044-7611.

During the public comment period, the Consent Decree may be examined and downloaded at this Justice Department Web site: http://www.justice.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $35.50 (25 cents per page reproduction cost) payable to the United States Treasury.

Maureen Katz,
Assistant Section Chief, Environmental Enforcement Section, Environment and Natural Resources Division.

[FR Doc. 2013-21079 Filed 8-28-13; 8:45 am]

BILLING CODE 4410-15-P